DEPARTMENT OF AGRICULTURE

Forest Service

Bridger-Teton National Forest, Jackson Ranger District, Teton County, Wyoming; Snow King Mountain Resort On-Mountain Improvements Project Environmental Impact Statement

AGENCY: Forest Service, USDA.

ACTION: Notice to reopen the public scoping period.

SUMMARY: The USDA Forest Service, Bridger-Teton National Forest is issuing this notice to advise the public that the public scoping period for the preparation of an Environmental Impact Statement on the Snow King Mountain Resort On-mountain Improvements Project has been reopened.

DATES: Comments concerning the scope of the analysis must be received by October 4, 2018.

ADDRESSES: Send written comments to: Bridger-Teton National Forest—Jackson Ranger District, P.O. Box 1689, Jackson, WY 83001—attention District Ranger Mary Moore. Comments may be hand-delivered to 340 N. Cache St. between 8 a.m. and 4:30 p.m., Monday through Friday, excluding holidays. Comments may be sent via email to: comments-intermtn-bridger-teton-jackson@fs.fed.us, or via facsimile to 307-739-5010.

FOR FURTHER INFORMATION CONTACT: Mary Moore, Jackson District Ranger, marymoore@fs.fed.us or (307) 739-5410. Individuals who use telecommunication devices for the deaf (TDD) may call the Federal Information Relay Service (FIRS) at 1-800-877-8339 between 8 a.m. and 8 p.m., Eastern Time, Monday through Friday.

SUPPLEMENTARY INFORMATION: The original Notice of Intent for public comment on the Snow King Mountain Resort On-mountain Improvements Project was published in the Federal Register on August 3, 2018 (83 FR 38117), announcing a 30-day public scoping period. A corrected notice was published on August 14, 2018 (83 FR 40215), providing a correction to the contact information and clarifying the end date of the scoping period. Recognizing a 30-day comment period may be insufficient for comment preparation from all interested parties, the comment period is being extended until October 4, 2018. A detailed description of the proposed action, including maps, and additional information, is available at: http://www.fs.usda.gov/project/?project=54201.

Dated: September 5, 2018.
Allen Rowley,
Acting Associate Deputy Chief, National Forest System.

[FR Doc. 2018-20044 Filed 9-13-18; 8:45 am]

BILLING CODE 3411-15-P